DEPARTMENT OF COMMERCE

International Trade Administration

[A-570-890]

Wooden Bedroom Furniture From the People's Republic of China: Final Results of Antidumping Duty Administrative Review and Final Determination of No Shipments in Part; 2016

AGENCY: Enforcement and Compliance, International Trade Administration, Department of Commerce.

SUMMARY: On October 11, 2017, the Department of Commerce (Commerce) published its Preliminary Results for the January 1, 2016, through December 31, 2016, administrative review of the antidumping duty order on wooden bedroom furniture (WBF) from the People's Republic of China (China). Although invited to do so, interested parties did not comment on our Preliminary Results. We have adopted the Preliminary Results as the final results.

DATES: Applicable February 14, 2018.

FOR FURTHER INFORMATION CONTACT: Eli Lovely, AD/CVD Operations, Office IV, Enforcement & Compliance, International Trade Administration, U.S. Department of Commerce, 1401 Constitution Avenue NW, Washington, DC 20230; telephone: (202) 482-1593.

Background

On October 11, 2017, Commerce published its Preliminary Results of the review of the antidumping duty order on WBF from China for one mandatory respondent, Decca Furniture Ltd. (Decca), and twelve other companies covering the period January 1, 2016, through December 31, 2016 (the period of review (POR)).¹ No parties commented on the Preliminary Results.

¹ See Wooden Bedroom Furniture from the People's Republic of China: Preliminary Results and Partial Rescission of Antidumping Duty Administrative Review and Preliminary Determination of No Shipments in Part; 2016, 82 FR 47172 (October 11, 2017) (Preliminary Results).

Commerce has exercised its discretion to toll deadlines for the duration of the closure of the Federal Government from January 20 through 22, 2018. If the new deadline falls on a non-business day, in accordance with Commerce's practice, the deadline will become the next business day. The revised deadline for the final results of this review is now February 15, 2018.²

² See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The product covered by the Order is wooden bedroom furniture, subject to certain exceptions.³ Based on a U.S. Customs and Border Protection (CBP) ruling indicating that CBP would no longer use certain harmonized tariff schedule subheadings to classify items that are within the scope of the Order,⁴ Commerce preliminarily revised the scope to include the harmonized tariff schedule numbers under which subject merchandise is entered.⁵ No parties commented on this revision. Hence, we have adopted this revision in these final results. Under this revision, imports of subject merchandise are classified under the Harmonized Tariff Schedule of the United States (HTSUS) subheadings: 9403.90.7005, 9403.90.7080, 9403.50.9041, 9403.60.8081, 9403.20.0018, 9403.90.8041, 7009.92.1000 or 7009.92.5000. Although the HTSUS subheadings are provided for convenience and customs purposes, the written product description in the Order remains dispositive.⁶

³ See Notice of Amended Final Determination of Sales at Less Than Fair Value and Antidumping Duty Order: Wooden Bedroom Furniture from the People's Republic of China, 70 FR 329 (January 4, 2005) (Order).

⁴ See letter from the petitioners, re: “Wooden Bedroom Furniture from China: Petitioners' Comments Regarding the Upcoming Preliminary Results,” dated August 29, 2017.

⁵ See Preliminary Results, at 47173.

⁶ For a complete description of the scope of the Order and a discussion of the revisions to the HTSUS numbers in the scope, see Decision Memorandum for the Preliminary Results of the Antidumping Duty Administrative Review: Wooden Bedroom Furniture from the People's Republic of China, from James Maeder, Senior Director, performing the duties of Deputy Assistant Secretary for Antidumping Duty and Countervailing Duty Operations, to Gary Taverman, Deputy Assistant Secretary for Antidumping and Countervailing Duty Operations, performing the non-exclusive functions and duties of the Assistant Secretary for Enforcement and Compliance (Preliminary Decision Memorandum), dated October 11, 2017.

Analysis

As noted above, no parties commented on the Preliminary Results. Therefore, we are adopting the decisions in the Preliminary Decision Memorandum for these final results of review. In the Preliminary Results, Commerce: (1) Determined that four companies, including Decca, did not establish their eligibility for a separate rate and are part of the China-wide entity; ⁷ (2) determined that eight companies had no shipments of subject merchandise; ⁸ and (3) rescinded the review for Nanhai Jiantai Woodwork Co., Ltd., Fortune Glory Industrial, Ltd. (HK Ltd.) (collectively, Fortune Glory), for whom all review requests were withdrawn.⁹ For these final results of review, we have continued to treat the four companies, including Decca, as part of the China-wide entity and have continued to find that eight companies had no shipments during the POR. Because no party requested a review of the China-wide entity, we are not conducting a review of the China-wide entity.¹⁰ Thus, there is no change to the rate for the China-wide entity from the Preliminary Results. The existing rate for the China-wide entity is 216.01 percent.

⁷ The other three companies are: (1) Changshu HTC Import & Export Co., Ltd.; (2) Starwood Industries Ltd.; and (3) U-Rich Furniture (Zhangzhou) Co., Ltd.; U-Rich Furniture Ltd.

⁸ The eight companies/company groupings are: (1) Dongguan Sunrise Furniture Co., Taicang Sunrise Wood Industry, Co., Ltd., Shanghai Sunrise Furniture Co., Ltd., Fairmont Designs; (2) Dongguan Sunrise Furniture Co., Taicang Sunrise Wood Industry, Co., Ltd., Taicang Fairmont Designs Furniture Co., Ltd., Meizhou Sunrise Furniture Co., Ltd.; (3) Eurosa (Kunshan) Co., Ltd.; Eurosa Furniture Co., (PTE) Ltd.; (4) Golden Well International (HK) Limited; Zhangzhou Xym Furniture Product Co., Ltd.; (5) RiZhao Sanmu Woodworking Co., Ltd.; (6) Shenyang Shining Dongxing Furniture Co., Ltd.; (7) Woodworth Wooden Industries (Dong Guan) Co., Ltd.; and (8) Yeh Brothers World Trade Inc.

⁹ See Preliminary Results, at 47172.

¹⁰ See Antidumping Proceedings: Announcement of Change in Department Practice for Respondent Selection in Antidumping Duty Proceedings and Conditional Review of the Nonmarket Economy Entity in NME Antidumping Duty Proceedings, 78 FR 65963, 65969-70 (November 4, 2013).

For additional details, see the Preliminary Decision Memorandum, which is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Results Decision Memorandum can be accessed directly on the internet at http://enforcement.trade.gov/frn/index.html. The signed and the electronic versions of the Preliminary Decision Memorandum are identical in content.

Assessment Rates

Pursuant to section 751(a)(2)(C) Tariff Act of 1930, as amended (the Act), and 19 CFR 351.212(b), the Department has determined, and CBP shall assess, antidumping duties on all appropriate entries of subject merchandise in accordance with the final results of this review. Commerce intends to issue assessment instructions to CBP 15 days after the publication date of the final results of this review. Commerce intends to instruct CBP to liquidate any entries of subject merchandise exported during this POR by Decca and the other three companies noted above which did not qualify for separate rate status, at the China-wide rate.

Additionally, pursuant to Commerce's practice in NME cases, if there are any suspended entries of subject merchandise during the POR under the case numbers of the eight companies that claimed no shipments of subject merchandise, they will be liquidated at the China-wide rate.¹¹

¹¹ For a full discussion of this practice, see Non-Market Economy Antidumping Proceedings: Assessment of Antidumping Duties, 76 FR 65694 (October 24, 2011).

Cash Deposit Requirements

The following cash deposit requirements will be effective upon publication of the final results of this administrative review for shipments of subject merchandise from China entered, or withdrawn from warehouse, for consumption on or after the publication date in the Federal Register of the final results of this review, as provided by section 751(a)(2)(C) of the Act: (1) For previously investigated or reviewed China and non-China exporters which are not under review in this segment of the proceeding but which received a separate rate in a prior segment of this proceeding, the cash deposit rate will continue to be the existing exporter-specific rate; (2) for all China exporters of subject merchandise that have not been found to be entitled to a separate rate, the cash deposit rate will be the rate for the China-wide entity, which is 216.01 percent; and (3) for all non-China exporters of subject merchandise which have not received their own rate, the cash deposit rate will be the rate applicable to the Chinese exporter that supplied that non-China exporter.

These deposit requirements, when imposed, shall remain in effect until further notice.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this antidumping duty administrative review is issued and published in accordance with sections 751(a)(1) and 777(i) of the Act and 19 CFR 351.213 and 19 CFR 351.221(b)(5).

Dated: January 24, 2018.
Christian Marsh,
Deputy Assistant Secretary for Enforcement and Compliance.

[FR Doc. 2018-02896 Filed 2-13-18; 8:45 am]

BILLING CODE 3510-DS-P